DEPARTMENT OF HEALTH AND HUMAN SERVICES

Agency for Toxic Substances and Disease Registry

[ATSDR-169]

Public Health Assessments Completed

AGENCY: Agency for Toxic Substances and Disease Registry (ATSDR), Department of Health and Human Services (HHS).

ACTION: Notice.

SUMMARY: This notice announces those sites for which ATSDR has completed public health assessments during the period from January through March 2001. This list includes sites that are on or proposed for inclusion on the National Priorities List (NPL), and includes sites for which assessments were prepared in response to requests from the public.

FOR FURTHER INFORMATION CONTACT: Robert C. Williams, P.E., DEE, Assistant Surgeon General, Director, Division of Health Assessment and Consultation, Agency for Toxic Substances and Disease Registry, 1600 Clifton Road, NE., Mailstop E-32, Atlanta, Georgia 30333, telephone (404) 639-0610.

SUPPLEMENTARY INFORMATION: The most recent list of completed public health assessments was published in the Federal Register on March 23, 2001 (66 FR 16247). This announcement is the responsibility of ATSDR under the regulation, Public Health Assessments and Health Effects Studies of Hazardous Substances Releases and Facilities (42 CFR Part 90). This rule sets forth ATSDR's procedures for the conduct of public health assessments under section 104(i) of the Comprehensive Environmental Response, Compensation, and Liability Act (CERCLA), as amended by the Superfund Amendments and Reauthorization Act (SARA) (42 U.S.C. 9604(i)).

Availability

The completed public health assessments and addenda are available for public inspection at the Division of Health Assessment and Consultation, Agency for Toxic Substances and Disease Registry, Building 33, Executive Park Drive, Atlanta, Georgia (not a mailing address), between 8 a.m. and 4:30 p.m., Monday through Friday except legal holidays. The completed public health assessments are also available by mail through the U.S. Department of Commerce, National Technical Information Service (NTIS), 5285 Port Royal Road, Springfield, Virginia 22161, or by telephone at (703) 605-6000. NTIS charges for copies of public health assessments and addenda. The NTIS order numbers are listed in parentheses following the site names.

Public Health Assesssments Completed or Issued

Between January 1 and March 31, 2001, public health assessments were issued for the sites listed below:

NPL Sites

California

Chrome Crankshaft and J&S Chrome Plating—Bell Gardens—(PB21-104090)

March Air Force Base(a/k/a March Air Reserve Base)—March Air Force Base—(PB21-104262)

Connecticut

Scovil Industrial Landfill(a/k/a Scovill Industrial Landfill)—Waterbury—(PB21-103303)

Illinois

Koppers Wood Treating Company(a/k/a Koppers Company Incorporated Forest Production Group)—Carbondale—(PB21-104268) Pfizer, Incorporated—East St. Louis—(PB21-104266)

Iowa

Mid-America Tanning Company—Sergeant Bluff—(PB21-102651)

New Hampshire

Cardinal Landfill—Farmington—(PB21-102637)

New Jersey

Ciba Geigy Corporation—Dover Township—(PB21-104088)

Dover Township Municipal Landfill (a/k/a Dover Township Landfill) and Silverton Private Well Contamination Investigation (a/k/a Silverton Wells)—Dover Township—(PB21-104089)

Reich Farm—Dover Township—(PB21-104087)

New York

Anitec Image Corporation—Binghamton—(PB21-102636)

Lehigh Valley Railroad Derailment Site (a/k/a Lehigh Valley Railroad)—Leroy—(PB21-104263)

North Carolina

Georgia Pacific Corporation Hardwood Sawmill—Plymouth—(PB21-102728)

Ohio

Eagle-Picher Industries, Incorporated/Bunting Bearings Corporation (a/k/a Eagle Picher) Delta—(PB21-104264)

South Carolina

Aqua-Tech Environmental, Incorporated (Groce Laboratories)—Greer—(PB21-104394)

Texas

Star Lake Canal (a/k/a Star Lake Canal Site-Port Neches)—Port Neches—(PB21-104265)

State Road 114 Groundwater Plume—Levelland—(PB21-104085)

Vermont

Pownal Tannery—Pownal—(PB21-102652)

Non NPL Petitioned Sites

Connecticut

Yaworski Landfill (aliases: Yaworski Dump and Packer Road Landfill) and Yaworski Waste Lagoon—Canterbury—(PB21-104531)

Massachusetts

Hercules Dumpsite (a/k/a Hercules Landfill)—Mansfield—(PB21-104267)

Georgia

Newtown Community—Gainsville—(PB21-104261)

West Virginia

Vienna Tetrachloroethene—Vienna—(PB21-103465)

Dated: April 30, 2001.
Georgi Jones,
Director, Office of Policy and External Affairs, Agency for Toxic Substances and Disease Registry.

[FR Doc. 01-11220 Filed 5-3-01; 8:45 am]

BILLING CODE 4163-70-P